DEPARTMENT OF TRANSPORTATION

Surface Transportation Board

[Docket No. FD 35380]

San Luis & Rio Grande Railroad—Petition for a Declaratory Order

AGENCY: Surface Transportation Board, DOT.

ACTION: Notice of public meeting.

SUMMARY: Staff members of the Surface Transportation Board will hold a public meeting concerning the declaratory order proceeding in the above-titled docket. The purpose of the meeting is to allow interested persons to comment on the issues raised in the proceeding.

Date/Location: The public meeting will take place on Thursday, February 17, 2011, beginning at 10 a.m. (local time), in Our Lady of Guadalupe Parish Hall, 6631 County Road 13, Conejos, Colorado 81129.

FOR FURTHER INFORMATION CONTACT: Joseph H. Dettmar, (202) 245-0395. Assistance for the hearing impaired is available through the Federal Information Relay Service (FIRS) at 1-800-877-8339.

SUPPLEMENTARY INFORMATION: In response to a petition filed by San Luis & Rio Grande Railroad (SLRG), the Board instituted a declaratory order proceeding under 5 U.S.C. 554(e) and 49 U.S.C. 721 on August 12, 2010, to determine whether the Board's jurisdiction preempts the land-use code of Conejos County, Colorado (County) that may otherwise apply to SLRG's proposed operation of a truck-to-rail transload facility in Antonito, Colorado. See San Luis & Rio Grande R.R.—Petition for a Declaratory Order, FD 35380 (STB served Aug. 12, 2010) (August decision). Specifically, the facility will be used to transfer containers and/or bags of contaminated dirt and debris from trucks originating at Los Alamos National Laboratory in New Mexico to railcars.

In the August decision instituting a proceeding, the Board opened the matter for public comment on the petition and gave SLRG the opportunity to supplement its filing. The Board requested that the filings focus on issues related to the Clean Railroads Act of 2008, 49 U.S.C. 10501(c)(2), 10908-10910 (CRA), including whether SLRG's containers are original shipping containers under 49 U.S.C. 10908(e)(1)(H)(i), and whether the dirt SLRG plans to transload and transport is subject to the CRA. The August decision also established an initial procedural schedule.

In response to the Board's request for public comments, several entities and individuals filed comments. One such entity, Conejos County Clean Water, Inc. (CCCW) included in its extensive comments a request for the opportunity to provide oral public comments on what the Board deemed novel issues at a hearing proceeding in Conejos County. In support of this request, CCCW attached a letter from its Chair explaining that Conejos County is the poorest county in Colorado with a median income of $24,744, making it almost impossible for its residents to travel to Washington, DC to participate in this proceeding. By decision served December 20, 2010, the Board granted the request for a public meeting in Conejos County to be held by Board staff to give local stakeholders the opportunity to provide public comment on the proceeding.

During the public meeting, Board staff will hear comments regarding the declaratory order proceeding. The meeting will continue until all interested persons or parties have had an opportunity to speak. Persons wishing to speak should place their names on the list of speakers upon arrival at the Parish Hall of Our Lady of Guadalupe Church. A court reporter will transcribe the meeting and prepare a transcript that will be included in the public record of the proceeding.

All decisions, notices, and filings in this proceeding are available on the Board's Web site at http://www.stb.dot.gov. A transcript of the meeting will also be posted on the Board's Web site.

This action will not significantly affect either the quality of the human environment or the conservation of energy resources.

Dated: January 31, 2011.
By the Board, Joseph H. Dettmar, Acting Director, Office of Proceedings.
Jeffrey Herzig,
Clearance Clerk.

[FR Doc. 2011-2460 Filed 2-3-11; 8:45 am]

BILLING CODE 4915-01-P